DEPARTMENT OF EDUCATION

President's Advisory Commission on Educational Excellence for Hispanic Americans; Meeting

AGENCY: President's Advisory Commission on Educational Excellence for Hispanic Americans, Department of Education.

ACTION: Notice of meeting.

SUMMARY: This notice sets forth the schedule and proposed agenda of a forthcoming meeting of the President's Advisory Commission on Educational Excellence for Hispanic Americans (Commission). This notice also describes the functions of the Commission. Notice of this meeting is required under Section 10(a)(2) of the Federal Advisory Committee Act and is intended to notify the public of their opportunity to attend.

DATES AND TIMES: Wednesday, April 17, 2002, 8 a.m. to 4:30 p.m., and Thursday, April 18, 2002, 8:00 a.m. to 9 a.m. and 12:30 p.m. to 2 p.m.

ADDRESSES: The Commission meeting will be held in Las Vegas, Nevada, at The Venetian Hotel located at 3355 Las Vegas Boulevard South, Las Vegas, Nevada, 89109.

FOR FURTHER INFORMATION CONTACT: Leslie Sanchez, Executive Director, or Adam Chavarria, Associate Director, White House Initiative on Educational Excellence for Hispanic Americans, 400 Maryland Ave., SW., Washington, D.C. 20202, (202) 401-1411.

SUPPLEMENTARY INFORMATION: The President's Advisory Commission on Educational Excellence for Hispanic Americans is established under Executive Order 13230 dated October 12, 2001. The Commission is established to provide advice to the Secretary of Education (Secretary) and issue reports to the President concerning: (a) the progress of Hispanic Americans in closing the academic achievement gap and attaining the goals established by the President's No Child Left Behind Act of 2002; (b) the development, monitoring, and coordination of Federal efforts to promote high-quality education for Hispanic Americans; (c) ways to increase parental, State and local, private sector, and community involvement in improving education; and (d) ways to maximize the effectiveness of Federal education initiatives within the Hispanic community. Individuals who will need accommodations for a disability in order to attend the meeting (i.e. interpreting services, assistive listening devices, materials, in alternative format) should notify Adam Chavarria at (202) 401-1411 by no later than April 12. We will attempt to meet requests after this date, but cannot guarantee availability of the requested accommodation. The meeting site is accessible to individuals with disabilities. On Wednesday, April 17th, the Commission will receive testimony from a panel of experts on a range of educational topics. On Thursday, the Commission will convene in the morning to receive briefings from two working groups and to deliberate on presentations, findings and next steps. The Commission will meet in open session from 8 a.m. to 4:30 p.m. on Wednesday, and from 8 a.m. to 9 a.m. and from 12:30 p.m. to 2 p.m. on Thursday.

Records are kept of all Commission proceedings, and are available for public inspection at the office of the White House Initiative on Educational Excellence for Hispanic Americans from the hours of 9 a.m. to 5 p.m.

Dated: April 1, 2002.
Laurie M. Rich,
Assistant Secretary, Office of Intergovernmental and Interagency Affairs.

[FR Doc. 02-8371 Filed 4-5-02; 8:45 am]

BILLING CODE 4000-01-M